DEPARTMENT OF AGRICULTURE

Rural Business-Cooperative Service

[Docket#: RBS-24-BUSINESS-0011]

Notice of Solicitation of Applications for the Intermediary Relending Program for Fiscal Year 2025

AGENCY: Rural Business-Cooperative Service, USDA.

ACTION: Notice.

SUMMARY: The Rural Business-Cooperative Service (RBCS or Agency), a Rural Development (RD) agency of the United States Department of Agriculture (USDA), invites applications under the Intermediary Relending Program (IRP) for fiscal year (FY) 2025, subject to availability of funding. This Notice is being issued prior to passage of a FY 2025 appropriations act in order to allow applicants enough time to leverage financing, prepare and submit their applications, and give the Agency time to process program applications within FY 2025. Funding for FY 2024 was $10,000,000, and the amount of funding appropriated for this program for FY 2025 will not be known until Congress passes the appropriations act for FY 2025. Successful applications will be selected by the Agency for funding and subsequently awarded to the extent that funding may ultimately be made available through appropriations. All applicant are responsible for any expenses incurred in developing their application whether or not funding is appropriated in FY 2025.

DATES: The deadlines for completed applications to be received in the USDA RD State Office for quarterly funding competitions is no later than 4:30 p.m. (local time) on: First Quarter-September 30, 2024, Second Quarter—December 31, 2024, Third Quarter—March 31, 2025, and Fourth Quarter—June 30, 2025.

ADDRESSES: Applications must be submitted to the USDA RD State Office for the state where the applicant is located. Applications may be submitted in paper or electronic format to the appropriate RD State Office and must be received by 4:30 p.m. local time on the deadline date(s) to compete for available funds in the fiscal quarter. Applicants are encouraged to contact their respective RD State Office for an email contact to submit an electronic application prior to the submission deadline date(s). A list of the USDA RD State Office contacts can be found at: rd.usda.gov/about-rd/state-offices.

FOR FURTHER INFORMATION CONTACT: Lori Pittman, Program Management Division, Business Programs, Rural Business-Cooperative Service, U.S. Department of Agriculture, 1400 Independence Avenue SW, MS 3226, Room 5160-S, Washington, DC 20250-3226, lori.pittman1@usda.gov, or call (202) 720-9815. For further information on this Notice, please contact the USDA RD State Office in the State in which the applicant's headquarters is located. A list of RD State Office contacts is provided at the following link: rd.usda.gov/about-rd/state-offices.

SUPPLEMENTARY INFORMATION:

Overview

Federal Awarding Agency Name: Rural Business-Cooperative Service (RBCS).

Funding Opportunity Title: Intermediary Relending Program (IRP).

Announcement Type: Notice of Solicitation of Application (NOSA).

Assistance Listing Number: 10.767.

Dates: The deadlines for completed applications to be received in the USDA RD State Office for quarterly funding competitions is no later than 4:30 p.m. (local time) on: First Quarter—September 30, 2024, Second Quarter—December 31, 2024, Third Quarter—March 31, 2025, and Fourth Quarter—June 30, 2025.

Rural Development Priorities: The Agency encourages applicants to consider projects that will advance the following key priorities (more details available at rd.usda.gov/priority-points):

• Creating More and Better Markets: Assist rural communities to recover economically through more and better market opportunities and through improved infrastructure.

• Addressing Climate Change and Environmental Justice: Reduce climate pollution and increase resilience to the impacts of climate change through economic support for rural communities.

• Advancing Racial Justice, Place-Based Equity, and Opportunity: Ensure all rural residents have equitable access to RD programs and benefits from RD funded projects.

A. Program Description

1. Purpose of the Program. This program provides low-interest loans to local lenders (intermediaries) who then relend to businesses to help improve economic conditions and create jobs in rural communities. This purpose is achieved through the loans made to intermediaries that establish a revolving loan fund for the purpose of providing loans to ultimate recipients to promote community development, establish new businesses, establish and support microlending programs, and create or retain employment opportunities in rural areas. All applicable program requirements in their entirety can be found at 7 CFR part 4274, subpart D.

2. Statutory and Regulatory Authority. This program is authorized under section 310H of the Consolidated Farm and Rural Development Act (7 U.S.C. 1936b) and is administered through regulations at 7 CFR part 4274, subpart D.

The Consolidated Appropriations Act, 2024, authorized set-aside funding to projects and intermediaries serving Federally recognized Indian Tribes, and for Mississippi Delta Region Counties (as determined in accordance with Pub. L. 118-42). Eligible applicants for the set-aside funds, assuming that similar set-aside funds are appropriated for Fiscal Year 2025, must demonstrate that at least 75 percent of the benefits of an approved loan in this program will assist ultimate recipients in the designated areas. Applications for any set-aside funds must be submitted to the RD State Office where the project is located by 4:30 p.m. (local time) on the following deadline dates. The deadline to submit completed applications for Federally recognized Indian Tribes and Mississippi Delta Region Counties' projects is May 31, 2025. It is possible that funds may also be appropriated by Congress for projects located in Rural Empowerment Zone/Enterprise Communities/Rural Economic Area Partnership areas. Completed applications for these projects, subject to available funding, must be submitted by July 15, 2025.

3. Definitions. The definitions applicable to this notice are published at 7 CFR 4274.302.

4. Application of Awards. The Agency will review, evaluate and score applications received in response to this Notice based on the provisions found in 7 CFR 4274.340 and as indicated in this Notice. Awards under the IRP will be made on a competitive basis using specific selection criteria contained in 7 CFR 4274.341(b). The Agency advises all interested parties that the applicant bears the full burden in preparing and submitting an application in response to this notice regardless of whether or not funding is appropriated for the IRP in FY 2025.

B. Federal Award Information

Type of Award: Loan.

Fiscal Year Funds: FY 2025.

Available Funds: Funding for the IRP program in FY 2025 will be determined in an appropriations act for FY 2025.

Award Amounts: The Agency anticipates a maximum award of $1 million for eligible Intermediaries submitting a loan request.

Anticipated Award Dates—

(a) Regular Funding: First Quarter—December 1, 2024, Second Quarter—March 1, 2025, Third Quarter—June 1, 2025, Fourth Quarter—September 1, 2025.

(b) Federally recognized Indian Tribes and Mississippi Delta Region Counties Funding: June 15, 2025.

(c) Empowerment Zones/Enterprise Communities/Rural Economic Area Partnership Funding: August 1, 2025.

Performance Period: None.

Renewal or Supplemental Awards: None

Type of Assistance Instrument: Direct Loan.

C. Eligibility Information

1. Eligible Applicants. IRP loans may be made to a private non-profit corporation, a public agency, a Federally recognized Indian Tribe or one of its wholly owned arms and instrumentalities or a cooperative entity, identified as an eligible intermediary in accordance with 7 CFR 4274.310.

2. Cost Share or Matching. The IRP revolving fund share of the eligible project cost of an ultimate recipient's project funded under this Notice shall not exceed the lesser of (a) $400,000; and (b) Fifty percent of the originally-approved Agency IRP loan amount to an intermediary. No more than 75 percent of the total cost of an ultimate recipient's project can be funded from Agency IRP loan funds. Points awarded for leveraging will be considered in accordance with the requirements specified in 7 CFR 4274.341(b)(4).

3. Other. Applications will only be accepted from eligible intermediaries that will establish, or have established, revolving loan programs for the purpose of providing loans to ultimate recipients for business purposes and community development in a rural area.

There are no responsiveness or threshold eligibility criteria for these loans. However, not more than one loan will be approved by the Agency for an intermediary in any single fiscal year unless the additional request is from this program's set-aside funding.

Applications will not be considered for funding if they do not provide enough information to determine eligibility, are not suitable for evaluation, or are missing required elements as stated in 7 CFR 4274.340.

D. Application and Submission Information

1. Address to Request Application Package. For further information, entities wishing to apply for assistance should contact the USDA RD State Office where they are located, provided in the ADDRESSES section of this notice, to obtain copies of the application package. Applicants are also encouraged to contact their respective RD State Office for an email contact to submit an electronic application prior to the submission deadline date(s). Please note that applicants may locate the downloadable application package for this program by the Assistance Listing Number provided in the Overview Section above.

2. Content and Form of Application Submission. An application must contain all the required elements described in 7 CFR 4274.340, and each selection priority criterion outlined in 7 CFR 4274.341(b) must be addressed in the application. An original copy of the application must be filed with a RD State Office for the state where the Intermediary is located.

The applicant documentation and forms needed for a complete application are in 7 CFR 4274.340. There are no specific formats or limitations on the number of pages required for an application narrative, and applicants may request any Agency forms and addresses from the ADDRESSES section of this notice. Any form that requires an original signature, but is signed electronically in the application submission, must be signed in ink by the authorized person prior to the disbursement of funds.

3. System for Award Management and Unique Entity Identifier.

(a) At the time of application, each applicant must have an active registration in the System for Award Management (SAM) before submitting its application in accordance with 2 CFR part 25. To register in SAM, entities will be required to obtain a Unique Entity Identifier (UEI). Instructions for obtaining the UEI are available at sam.gov/content/entity-registration.

(b) Applicants must maintain an active SAM registration, with current, accurate and complete information, at all times during which it has an active Federal award or an application under consideration by a Federal awarding agency.

(c) Applicants must ensure they complete the Financial Assistance General Certifications and Representations in SAM.

(d) Applicants must provide a valid UEI in its application, unless determined exempt under 2 CFR 25.110.

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times. Applications, including applications for set-aside funding, must be received by the specified USDA RD State Office by the dates and times as indicated in the DATES section of this notice to compete for available funds. If the due date falls on a Saturday, Sunday or federal holiday, the application is due the next business day. The Agency will determine the application receipt date based on the actual date an application is received electronically, in person, or when a paper application is postmarked. The Agency will not solicit or consider new scoring or eligibility information that is submitted after the application deadline. RBCS also reserves the right to ask applicants for clarifying information and additional verification of assertions in the application.

5. Intergovernmental Review. Executive Order (E.O.) 12372, Intergovernmental Review of Federal Programs, applies to this program. This E.O. requires that Federal agencies provide opportunities for consultation on proposed assistance with State and local governments. Many states have established a Single Point of Contact (SPOC) to facilitate this consultation. For a list of States that maintain a SPOC, please see the White House website: whitehouse.gov/omb/management/office-federal-financial-management/. If your State has a SPOC, you may submit a copy of the application directly for review. Any comments obtained through the SPOC must be provided to your State Office for consideration as part of your application. If your state has not established a SPOC, you may submit your application directly to the Agency. Indian Tribes are exempt from this requirement.

6. Funding Restrictions. The intent of the IRP is identified above in section A.1 of this notice. There are no funding restrictions beyond that the loan proceeds be used for eligible type purposes stated in 7 CFR 4274.320. Building construction is an eligible use of funds under the program and all projects must be located in a rural area of a State. Any administrative costs must be approved annually by the Agency.

7. Other Submission Requirements. Please note that applicants may locate the downloadable application package for this program by the Assistance Listing Number provided in the Overview section of this notice.

E. Application Review Information

1. Criteria. All eligible and complete applications will be evaluated and scored based on the selection criteria and weights contained in 7 CFR 4274.341(b) and in this section of the notice. Failure to address any of the application criteria by the application deadline will result in the application being determined ineligible, and the application will not be considered for funding.

(a) Discretionary Points. The Administrator may assign up to 10 discretionary points to an application when under their approval authority. Permissible justifications in accordance with 7 CFR 4274.341(b)(10) are geographic distribution of funds or special President/Secretary of Agriculture initiatives such as local foods, regional development, persistent poverty, energy-related, etc. The number of points to be awarded will be awarded for either or both items. Secretary of Agriculture initiatives include:

(1) Assisting rural communities recover economically through more and better market opportunities and through improved infrastructure. Applicant would receive priority points if the project is located in or serving a rural community whose economic well-being ranks in the most distressed tier (distress score of 80 or higher) of the Distressed Communities Index using the Distressed Communities Look-Up Map available at rd.usda.gov/priority-points.

(2) Ensuring all rural residents have equitable access to RD programs and benefits from RD funded projects. Using the Social Vulnerability Index (SVI) Look-Up Map (available at rd.usda.gov/priority-points), an applicant would receive priority points if:

• The project is located in or serving a community with score 0.75 or above on the SVI;

• The applicant is a Federally recognized Indian Tribe, including Tribal instrumentalities and entities that are wholly owned by Tribes; or

• It is a project where at least 50 percent of the project beneficiaries are members of Federally recognized Indian Tribes and non-Tribal applicants include a Tribal Resolution of Consent from the Tribe or Tribes that the applicant is proposing to serve.

• The application is from or benefits a Rural Partners Network's (RPN) community network. Currently RPN Networks exist in Alaska, Arizona, Georgia, Kentucky, Mississippi, Nevada, New Mexico, North Carolina, Puerto Rico, West Virginia and Wisconsin. Use the Community Look-Up map (available at www.rd.usda.gov/priority-points) to determine if your project qualifies for priority points.

(3) Reducing climate pollution and increasing resilience to the impacts of climate change through economic support to rural communities. Using the Disadvantaged Community and Energy Community Look-Up Map (available at rd.usda.gov/priority-points), applicants will receive priority in three ways:

• If the project is located in or serves a Disadvantaged Community as defined by the Climate and Economic Justice Screening Tool (CEJST), from the White House Council on Environmental Quality (CEQ);

• If the project is located in or serves an Energy Community as defined by the Inflation Reduction Act of 2022 (Pub. L. 117-169) (IRA); and

• If applicants can demonstrate through a written narrative how the proposed climate-impact projects will improve the livelihoods of community residents and meet pollution mitigation or clean energy goals.

2. Review and Selection Process. The RD State Office will review applications to determine if they are eligible for assistance based on the requirements contained in 7 CFR part 4274, subpart D. If determined eligible, the application will be submitted to the National Office for funding competition with all eligible applications received by the quarterly application deadline or the deadline indicated for set-aside funding. The Agency Administrator reserves the right to award up to 10 discretionary points as identified under 7 CFR 4274.341(b)(10).

To distribute funds among the greatest number of projects possible during the respective funding periods, applications will be reviewed, organized and ranked in order from highest to lowest and funded up to the maximum funding available during each quarterly funding cycle in FY 2025.

F. Federal Award Administration Information

1. Federal Award Notices. Successful applicants will receive notification for funding from the USDA RD State Office. Applicants must comply with all applicable statutes and regulations before the loan award will be obligated. An eligible application competing for regular IRP funds, but not selected, will be reconsidered in the three subsequent quarterly funding competitions, for a total of four competitions (and may be considered in a following fiscal year), provided the application and eligibility requirements have not changed. After competing in four consecutive quarterly competitions, any unsuccessful application for regular funds will receive written notification indicating that its application will no longer be considered for funding. Applicants competing for set-aside funding have only one application period per fiscal year to apply for set-aside funding. Unsuccessful applications for set-aside funding will receive written notification indicating that their application was not successful. An applicant with an unsuccessful application for set-aside funding may elect, in writing, to submit its project for IRP regular fund competitions commencing with the next quarterly application period.

2. Administrative and National Policy Requirements.

(a) Build America, Buy America (BABAA). Awardees that are Non-Federal Entities, defined pursuant to 2 CFR 200.1 as any State, local government, Indian Tribe, Institution of Higher Education, or nonprofit organization, shall be governed by the requirements of Section 70914 of the Build America, Buy America Act (BABAA) within the Infrastructure Investment and Jobs Act (Pub. L. 117-58), and its implementing regulations at 2 CFR part 184. Any requests for waiver of these requirements must be submitted pursuant to USDA's guidance available online at usda.gov/ocfo/federal-financial-assistance-policy/USDABuyAmericaWaiver.

(b) Geospatial Data. Awardee, and any and all contracts entered into by the awardee with respect to the award, shall ensure that geospatial data required to be collected and provided to the agency, conforms with the requirements of USDA Department Regulation DR-3465-001 and the Geospatial Metadata Standards set forth in DM 3465-001, which can be obtained online at usda.gov/directives/dr-3465-001andusda.gov/directives/dm-3465-001.

(c) Additional requirements that apply to intermediaries selected for this program can be found in 7 CFR part 4274, subpart D.

(d) All successful applicants will be notified by letter which will include a Letter of Conditions and a Letter of Intent to Meet Conditions, which are not approval determinations. The loan will be considered approved when all conditions in the Letter of Conditions have been met and the Agency obligates the funding for the project.

3. Reporting. In addition, all recipients of Federal financial assistance are required to report information about first-tier sub-awards and executive compensation (see 2 CFR part 170). Applicants will be required to have the necessary processes and systems in place to comply with the Federal Funding Accountability and Transparency Act of 2006 (Pub. L. 109-282) reporting requirements (see 2 CFR 170.200(b), unless applicants are exempt under 2 CFR 170.110(b)).

Intermediaries must collect and maintain data provided by Ultimate Recipients on race, sex, and national origin and ensure that Ultimate Recipients collect and maintain this data. Race and ethnicity data will be collected in accordance with the Office of Management and Budget (OMB) Federal Register notice, Revisions to the Standards for the Classification of Federal Data on Race and Ethnicity (62 FR 58782), October 30, 1997. Sex data will be collected in accordance with Title IX of the Education Amendments of 1972. These items should not be submitted with the application but should be made available upon request by the Agency.

The applicant and the Ultimate Recipients must comply with Title VI of the Civil Rights Act of 1964, Title IX of the Education Amendments of 1972, the Americans with Disabilities Act (ADA), Section 504 of the Rehabilitation Act of 1973, the Age Discrimination Act of 1975, Executive Order 12250, Executive Order 13166 Limited English Proficiency (LEP), and 7 CFR part 1901, subpart E.

G. Federal Awarding Agency Contact(s)

For General Questions About This Notice See the Point of Contact Provided in the FOR FURTHER INFORMATION CONTACT section of this notice.

H. Other Information

1. Paperwork Reduction Act. In accordance with the Paperwork Reduction Act of 1995 (44 U.S.C. chapter 35), the information collection requirements associated with the programs, as covered in this notice, have been approved by Office of Management and Budget (OMB) under OMB Control Number 0570-0021.

2. National Environmental Policy Act: All recipients under this notice are subject to the requirements of 7 CFR part 1970 and must comply in accordance with 7 CFR 4274.305(b).

3. Federal Funding Accountability and Transparency Act. All applicants, in accordance with 2 CFR part 25, must be registered in SAM and have a UEI number as stated in Section D.3. of this notice. All recipients of Federal financial assistance are required to report information about first-tier sub-awards and executive total compensation in accordance with 2 CFR part 170.

4. Civil Rights Act. All loans made under this notice are subject to Title VI of the Civil Rights Act of 1964 as required by USDA (7 CFR part 15, subpart A—Nondiscrimination in Federally-Assisted Programs of the Department of Agriculture—Effectuation of Title VI of the Civil Rights Act of 1964) and Section 504 of the Rehabilitation Act of 1973, Title VIII of the Civil Rights Act of 1968, Title IX, Executive Order 13166 (Limited English Proficiency), Executive Order 11246, and the Equal Credit Opportunity Act of 1974.

5. Equal Opportunity for Religious Organizations.

(a) Faith-based organizations may apply for this award on the same basis as any other organization, as set forth at, and subject to the protections and requirements of, this part and any applicable constitutional and statutory requirements, including 42 U.S.C. 2000bb et seq. USDA will not, in the selection of recipients, discriminate for or against an organization on the basis of the organization's religious character, motives, or affiliation, or lack thereof, or on the basis of conduct that would not be considered grounds to favor or disfavor a similarly situated secular organization.

(b) A faith-based organization that participates in this program will retain its independence from the Government and may continue to carry out its mission consistent with religious freedom and conscience protections in Federal law. Religious accommodations may also be sought under many of these religious freedom and conscience protection laws.

(c) A faith-based organization may not use direct Federal financial assistance from USDA to support or engage in any explicitly religious activities except when consistent with the Establishment Clause of the First Amendment to the United States Constitution and any other applicable requirements. An organization receiving Federal financial assistance also may not, in providing services funded by USDA, or in their outreach activities related to such services, discriminate against a program beneficiary or prospective program beneficiary on the basis of religion, a religious belief, a refusal to hold a religious belief, or a refusal to attend or participate in a religious practice.

6. Nondiscrimination Statement. In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office or the 711 Relay Service.

To file a program discrimination complaint, a complainant should complete a Form AD-3027, USDA Program Discrimination Complaint Form, which can be obtained online at usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Kathryn E. Dirksen Londrigan,
Administrator, Rural Business-Cooperative Service, USDA Rural Development.

[FR Doc. 2024-17480 Filed 8-7-24; 8:45 am]

BILLING CODE 3410-XY-P